DEPARTMENT OF LABOR

Employment and Training Administration

[TA-W-51,499]

Malthus Diagnostics, Inc., North Ridgeville, OH; Notice of Termination of Investigation

Pursuant to section 221 of the Trade Act of 1974, an investigation was initiated on April 15, 2003, in response to a worker petition which was filed by a company official on behalf of workers at Malthus Diagnostics, Inc., North Ridgeville, Ohio.

The petitioner has requested that the petition be withdrawn. Consequently, further investigation in this case would serve no purpose, and the investigation has been terminated.

Signed in Washington, DC this 28th day of April, 2003.
Linda G. Poole,
Certifying Officer, Division of Trade Adjustment Assistance.

[FR Doc. 03-11557 Filed 5-8-03; 8:45 am]

BILLING CODE 4510-30-P